DEPARTMENT OF HEALTH AND HUMAN SERVICES

National Institutes of Health

Proposed Collection; 60-Day Comment Request; the Study of the Global Cancer Project Map (NCI)

Summary: In compliance with the requirement of Section 3506(c)(2)(A) of the Paperwork Reduction Act of 1995, for opportunity for public comment on proposed data collection projects, the National Cancer Institute, the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To obtain a copy of the data collection plans and instruments, submit comments in writing, or request more information on the proposed project, contact: Kalina Duncan, Program Director, Center for Global Health, 9609 Medical Center Drive, 3W258, Rockville, MD 20850 or call non-toll-free number (240) 276-5804 or Email your request, including your address to: kalina.duncan@nih.gov. Formal requests for additional plans and instruments must be requested in writing.

Comment Due Date: Comments regarding this information collection are best assured of having their full effect if received within 60 days of the date of this publication.

Proposed Collection: The Study of the Global Cancer Project Map, 0925-NEW, National Cancer Institute (NCI), National Institutes of Health (NIH).

Need and Use of Information Collection: This is a new information collection request for the Study of the Global Cancer Project Map (GCPM) for three years. Information will be collected from health care professionals and researchers in an effort to catalog international efforts related to cancer research, care, and outreach by integrating cancer control program and research project information from various organizations worldwide.

The Global Cancer Project Map (GCPM) is a new, interactive, web-based tool that enables healthcare professionals and researchers to make informed decisions, initiate partnerships, and develop ideas for collaborations in cancer control. Its features allow people to (1) search for collaborators and projects by cancer type, project type, and country; (2) visualize information pertinent to each project on an interactive world map; (3) initiate contact with principal investigators and program directors; and (4) overlay heat maps of epidemiological measures that provide a representation of the burden of cancer by country.

The primary goals of GCPM are to facilitate the building of collaborations across organizations; accelerate progress, ensure a balanced investment of resources, and align global cancer care and control efforts; and continue data collection from national and international organizations to develop the Map as a resource to view and better understand international efforts in cancer research and control.

OMB approval is requested for 3 years. There are no costs to respondents other than their time. The total estimated annualized burden hours are 167.

Estimated Annualized Burden Hours
Form name | Type of respondents | Number of respondents | Number of responses per respondent | Average burden per response (in hours) | Total annual burden hours
Global Cancer Project Map submission form (Attach 3) | Chief Executives, Medical Scientists, Health Educators, Family/General Practitioners, Registered Nurses, Medical and Health Services Managers | 1,000 | 1 | 10/60 | 167
Totals |  | 1,000 | 1,000 |  | 167

Dated: July 8, 2016.
Karla Bailey,
Project Clearance Liaison, National Cancer Institute, NIH.

[FR Doc. 2016-16707 Filed 7-14-16; 8:45 am]

BILLING CODE 4140-01-P